DEPARTMENT OF HOMELAND SECURITY

[Docket No. DHS-2013-0022]

President's National Security Telecommunications Advisory Committee

AGENCY: National Protection and Programs Directorate, DHS.

ACTION: Committee Management; Notice of Partially Closed Federal Advisory Committee Meeting; Correction.

SUMMARY: The Department of Homeland Security published a document in the Federal Register of May 14, 2013, providing notice of a May 22, 2013, meeting of the President's National Security Telecommunications Advisory Committee (NSTAC). The document contained an incorrect date for the close of the comment period.

FOR FURTHER INFORMATION CONTACT: Michael Echols, NSTAC Alternate Designated Federal Officer, Department of Homeland Security, telephone (703) 235-5469.

Correction

In the Federal Register of May 14, 2013, in FR Doc. 2013-11324, on page 28238, in the first column, in the first paragraph of the ADDRESSES caption, correct the sixth sentence to read:

Comments must be submitted in writing no later than May 21, 2013 and must be identified by DHS-2013-0222 and may be submitted by one of the following methods:

Dated: May 15, 2013.
Christina E. McDonald,
Associate General Counsel for Regulatory Affairs.

[FR Doc. 2013-11948 Filed 5-16-13; 8:45 am]

BILLING CODE 9110-9P-P